DEPARTMENT OF ENERGY

Federal Energy Regulatory Commission

[Docket No. EC04-76-000, et al.]

The Narragansett Electric Company, et al.; Electric Rate and Corporate Filings

March 19, 2004.

The following filings have been made with the Commission. The filings are listed in ascending order within each docket classification.

1. The Narragansett Electric Company

[Docket No. EC04-76-000]

Take notice that on March 17, 2004, the Narragansett Electric Company (NEC) filed with the Federal Energy Regulatory Commission an application pursuant to section 203 of the Federal Power Act for approval of the transfer of certain transmission facilities to Rhode Island State Energy Statutory Trust 2000 in connection with the operation of a generation facility in Johnston, Rhode Island. The facilities consist of two short “tap lines.”

NEC states that a copy of this application has been served on the Rhode Island Public Utilities Commission.

Comment Date: April 7, 2004.

2. Nevada Power Company

[Docket No. EL04-90-000]

Take note that on March 16, 2004, Nevada Power Company tendered for filing a Petition for the issuance of a Declaratory Order regarding the contractual rights and obligations of Nevada Power Company's Transmission Service Agreements with Calpine Corporation and Reliant Energy Services, Inc. that require the use of Nevada Power Companies Centennial Transmission Project.

Comment Date: April 15, 2004.

3. Triton Power Michigan LLC

[Docket No. ER02-1437-001]

Take notice that on March 15, 2004, Triton Power Michigan LLC filed an amendment to its market-based rate tariff in compliance with the Commission's Order Amending Market-Based Rate Tariffs and Authorizations issued November 17, 2003, in Docket Nos. EL01-118-000 and 001, 105 FERC ¶ 61,218 (2003).

Comment Date: April 6, 2004.

4. Thermo Cogeneration Partnership, L.P.

[Docket No. ER02-1785-001]

Take notice that on March 15, 2004, Thermo Cogeneration Partnership, L.P. filed an amendment to its market-based rate tariff in compliance with the Commission's Order Amending Market-Based Rate Tariffs and Authorizations issued November 17, 2003, in Docket Nos. EL01-118-000 and 001, 105 FERC ¶ 61,218 (2003).

Comment Date: April 6, 2004.

5. Wisconsin Power & Light Company

[Docket No. ER03-684-001]

Take notice that on March 16, 2004, Wisconsin Power & Light Company (Wisconsin Power) tendered for filing a Refund Report in response to the Commission's Order issued February 11, 2004, in Docket No. ER03-684-000, 106 FERC ¶ 61,112.

Wisconsin Power states that copies of this filing have been served upon all affected customers, parties to the service list and the Public Service Commission of Wisconsin.

Comment Date: April 6, 2004.

6. Deseret Generation & Transmission Co-operative, Inc.

[Docket No. ER04-221-001]

Take notice that on March 16, 2004, Deseret Generation & Transmission Co-operative, Inc. (Deseret) submitted an informational filing, providing the exact amount paid as a 2003 Rate Rebate to each of its six member cooperatives under Service Agreement Nos. 1 through 6 of FERC Electric Tariff, Original Volume No. 1.

Deseret states that copies of this filing were served upon Deseret's six member cooperatives.

Comment Date: April 6, 2004.

7. DJWG, LLC

[Docket No. ER04-289-001]

Take notice that on March 17, 2004, DJWG, LLC (DJWG) filed a supplement to its application for market-based rates as power marketer filed on December 15, 2003.

Comment Date: April 7, 2004.

8. Idaho Power Company

[Docket No. ER04-495-001]

Take notice that on March 12, 2004, Idaho Power Company (Idaho Power) filed First Revised Service Agreement No. 174 under its Open Access Transmission Tariff. Idaho Power requests an effective date of April 1, 2004.

Comment Date: April 2, 2004.

9. Idaho Power Company

[Docket No. ER04-643-000]

On March 17, 2004, the Commission issued “Notice of Filing” in Docket No. ER04-643-000. The notice was issued in error and is hereby rescinded.

10. New England Power Pool

[Docket No. ER04-654-000]

Take notice that on March 17, 2004, New England Power Pool (NEPOOL) Participants Committee filed to terminate the membership of Solaro Energy Marketing Corporation (Solaro). The Participant Committee seeks an effective date for the termination of the Participant status of Solaro of the earlier of a Commission order accepting the filing, or May 1, 2004, 50 days after the initiation of termination proceedings.

Comment Date: April 7, 2004.

11. Midwest Independent Transmission System Operator, Inc.

[Docket No. ER04-656-000]

Take notice that on March 17, 2004, Midwest Independent Transmission System Operator, Inc. (Midwest ISO) pursuant to sections 35.15 and 131.53 of the Commission regulations, 18 CFR 35.15 and 131.53, submitted Notices of Cancellation for various Transmission Service Agreements under the Midwest ISO Joint Open Access Transmission Tariff.

Midwest ISO has requested waiver of the requirements set forth in 18 CFR 385.2010. Midwest ISO states that it has electronically served a copy of this filing, with attachments, upon all Midwest ISO Members, Member representatives of Transmission Owners and Non-Transmission Owners, the Midwest ISO Advisory Committee participants, as well as all State commissions within the region. In addition, the filing has been electronically posted on the Midwest ISO's Web site at http://www.midwestiso.org under the heading “Filings to FERC” for other interested parties in this matter.

Comment Date: April 7, 2004.

12. Mystic I, LLC

[Docket No. ER04-657-000]

Take notice that on March 17, 2004, Mystic I, LLC, filed a notice of succession to the rate schedule of Exelon Mystic, LLC.

Comment Date: April 7, 2004.

13. Southwest Power Pool, Inc.

[Docket No. ER04-658-000]

Take notice that on March 17, 2004, Southwest Power Pool, Inc. (SPP), pursuant to section 205 of the Federal Power Act and section 35.13 of the Commission's regulations submitted revisions to its open access transmission tariff (Tariff) intended to clarify and update certain provisions of the SPP Tariff. SPP seeks an effective date of April 1, 2004, for these changes.

SPP states that it has served a copy of its transmittal letter on each of its Members and Customers, and on all affected State commissions.

Comment Date: April 7, 2004.

14. Fore River Development, LLC

[Docket No. ER04-659-000]

Take notice that on March 17, 2004, Fore River Development, LLC, filed a notice of succession to the rate schedule of Exelon Fore River Development, LLC.

Comment Date: April 7, 2004.

15. Mystic Development, LLC

[Docket No. ER04-660-000]

Take notice that on March 17, 2004, Mystic Development, LLC, filed a notice of succession to the rate schedule of Exelon Mystic Development, LLC.

Comment Date: April 7, 2004.

Standard Paragraph

Any person desiring to intervene or to protest this filing should file with the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. E4-682 Filed 3-25-04; 8:45 am]

BILLING CODE 6717-01-P